ENVIRONMENTAL PROTECTION AGENCY

[FRL-9474-2]

Exposure Factors Handbook: 2011 Edition; Release of Final Report

AGENCY: Environmental Protection Agency (EPA).

ACTION: Notice of Availability.

SUMMARY: On September 30, 2011, the EPA publically released the final report entitled Exposure Factors Handbook: 2011 Edition. The document was prepared by the National Center for Environmental Assessment (NCEA) within EPA's Office of Research and Development. The Exposure Factors Handbook: 2011 Edition provides information on various physiological and behavioral factors commonly used in assessing exposure to environmental chemicals. The handbook was first published in 1989 and was updated in 1997. This edition incorporates information made available from 1997 up until July 2011. It also reflects the revisions made to the Child-Specific Exposure Factors Handbook, which was last updated and published in 2008. Each chapter in the Exposure Factors Handbook: 2011 Edition presents recommended values for the exposure factors covered in that particular chapter's exposure route as well as a discussion of the underlying data used in developing the recommendations.

The Exposure Factors Handbook: 2011 Edition (EPA/600/R-09/052F) is available via the Internet at http://www.epa.gov/ncea.

DATES: This report was posted publically on September 30, 2011.

ADDRESSES: The report is available primarily via the Internet on the National Center for Environmental Assessment's home page under the Recent Additions and Publications menus at http://www.epa.gov/ncea. Paper copies of the report are not available. A limited number of CD-ROMs will be available from the Information Management Team, NCEA; telephone: 703-347-8561; facsimile: 703-347-8691. If you are requesting a CD-ROM, please provide your name, your mailing address, and the document title.

FOR FURTHER INFORMATION CONTACT: For additional information, contact the National Center for Environmental Assessment; Jacqueline Moya; telephone: 703-347-8539; or e-mail: moya.jacqueline@epa.gov.

SUPPLEMENTARY INFORMATION:

I. Information About the Project/Document

The Exposure Factors Handbook: 2011 Edition provides a summary of the available statistical data on various factors used in assessing human exposure. These factors include: drinking water consumption; mouthing behavior; soil ingestion rates; inhalation rates; dermal factors, including skin area and soil adherence factors; consumption of fruits and vegetables, fish, meats, dairy products, and homegrown foods; human milk intake; human activity factors; consumer product use; and building characteristics. This handbook is intended for use by exposure assessors, within the Agency as well as those outside, as a reference tool and primary source of exposure factor information. It may be used by scientists, economists, and other interested parties as a source of data and/or U.S. EPA recommendations on numeric estimates for behavioral and physiological characteristics needed to estimate exposure to environmental agents. Recommended values are available for the general population and, for most of the exposure factors, are also available by age, sex, as well as for other populations that may have characteristics different from the general population.

Dated: September 23, 2011.
Darrell A. Winner,
Acting Director, National Center for Environmental Assessment.

[FR Doc. 2011-25412 Filed 9-30-11; 8:45 am]

BILLING CODE 6560-50-P